DEPARTMENT OF DEFENSE

Office of the Secretary

Defense Science Board; Notice of Federal Advisory Committee Meeting

AGENCY: Department of Defense.

ACTION: Notice of Federal Advisory Committee Meeting.

SUMMARY: The Defense Science Board (DSB) will meet in closed session on Thursday, February 16, 2017, from 8:00 a.m. to 12:00 p.m. and 1:00 p.m. to 3:00 p.m. in the Nunn-Lugar conference room 3E863 at the Pentagon, Washington, DC.

DATES: Thursday, February 16, 2017, from 8:00 a.m. to 12:00 p.m. and 1:00 p.m. to 3:00 p.m.

ADDRESSES: Nunn-Lugar conference room 3E863 at the Pentagon, Washington, DC.

FOR FURTHER INFORMATION CONTACT: Ms. Debra Rose, Executive Officer, Defense Science Board, 3140 Defense Pentagon, Room 3B888A, Washington, DC 20301-3140, via email at debra.a.rose20.civ@mail.mil, or via phone at (703) 571-0084 or the Defense Science Board Designated Federal Officer (DFO) Karen D.H. Saunders, Executive Director, Defense Science Board, 3140 Defense Pentagon, Room 3B888A, Washington, DC 20301, via email at karen.d.saunders.civ@mail.mil, or via phone at (703) 571-0079.

SUPPLEMENTARY INFORMATION: Due to circumstances beyond the control of the Designated Federal Officer and the Department of Defense, the Defense Science Board was unable to provide public notification concerning it meeting of February 16, 2017, as required by 41 CFR 102-3.150(a). Accordingly, the Advisory Committee Management Officer for the Department of Defense, pursuant to 41 CFR 102-3.150(b), waives the 15-calendar day notification requirement.

This meeting is being held under the provisions of the Federal Advisory Committee Act (FACA) of 1972 (5 U.S.C., Appendix, as amended), the Government in the Sunshine Act of 1976 (5 U.S.C. 552b, as amended), and 41 CFR 102-3.150.

The mission of the DSB is to provide independent advice and recommendations on matters relating to the DoD's scientific and technical enterprise. The objective of the meeting is to obtain, review, and evaluate classified information related to the DSB's mission. DSB membership will meet with DoD Leadership to discuss current and future national security challenges within the Department. This meeting will focus on the new administration's guidance and directives related to nuclear deterrence, countering anti-access systems with longer range and standoff capabilities, and survivable logistics. The DSB will host guest speakers from across the Department of Defense who will provide their perspective on the future of National Security under the new administration. The invited speakers are the Honorable Jim Mattis, Secretary of Defense; Honorable Robert Work, Deputy Secretary of Defense; General Paul Selva, Vice Chairman of the Joint Chiefs of Staff; LtGen J. Kevin McLaughlin, Deputy Commander, U.S. Cyber Command; and Vice Admiral James Syring, Director, Missile Defense Agency. Additionally, Mr. Michael Walker from the Defense Advanced Research Projects Agency (DARPA) will present an overview of the 2016 DARPA Cyber Grand Challenge competition.

In accordance with section 10(d) of the FACA and 41 CFR 102-3.155, the DoD has determined that the DSB meeting will be closed to the public. Specifically, the Under Secretary of Defense (Acquisition, Technology, and Logistics), in consultation with the DoD Office of General Counsel, has determined in writing that all sessions will be closed to the public because they will consider matters covered by 5 U.S.C. 552b(c)(1). The determination is based on the consideration that it is expected that discussions throughout will involve classified matters of national security concern. Such classified material is so intertwined with the unclassified information that it cannot reasonably be segregated into separate discussions without defeating the effectiveness and meaning of the overall meeting. To permit the meeting to be open to the public would preclude discussion of such matters and would greatly diminish the ultimate utility of the DSB's findings and recommendations to the Secretary of Defense and to the USD(AT&L).

In accordance with section 10(a)(3)of the FACA and 41 CFR 102-3.105(j) and 102-3.140, interested persons may submit a written statement for consideration by the DSB at any time regarding its mission or in response to the stated agenda of a planned meeting. Individuals submitting a written statement must submit their statement to the DSB DFO provided in this notice at any point; however, if a written statement is not received at least 3 calendar days prior to the meeting, which is the subject of this notice, then it may not be provided to or considered by the DSB until the next meeting of the DSB. The DFO will review all submissions with the DSB Chair and ensure they are provided to members of the DSB before its final deliberations on February 16, 2017.

Dated: February 6, 2017.
Aaron Siegel,
Alternate OSD Federal Register Liaison Officer, Department of Defense.

[FR Doc. 2017-02731 Filed 2-9-17; 8:45 am]

BILLING CODE 5001-06-P